DEPARTMENT OF HOMELAND SECURITY

Federal Emergency Management Agency

44 CFR Part 67

[Docket ID FEMA-2011-002; Internal Agency Docket No. FEMA-B-1178]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before May 17, 2011.

ADDRESSES: The corresponding preliminary Flood Insurance Rate Map (FIRM) for the proposed BFEs for each community is available for inspection at the community's map repository. The respective addresses are listed in the table below.

You may submit comments, identified by Docket No. FEMA-B-1178, to Luis Rodriguez, Chief, Engineering Management Branch, Federal Insurance and Mitigation Administration, Federal Emergency Management Agency, 500 C Street SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Santa Cruz County, California, and Incorporated Areas
Salsipuedes Creek | Approximately 0.7 mile upstream of State Route 129 | +46 | +45 | City of Watsonville, Unincorporated Areas of Santa Cruz County.
| Approximately 1.5 miles upstream of State Route 129 | +57 | +58
Struve Slough | At the upstream side of Harkins Slough Road | None | +17 | City of Watsonville.
| Approximately 0.4 mile upstream of Pennsylvania Drive | None | +58
Watsonville Slough | Approximately 1,460 feet downstream of Harkins Slough Road | None | +26 | City of Watsonville.
| Approximately 1,430 feet upstream of Marin Street | None | +59
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Watsonville
Maps are available for inspection at the Community Development Department, 250 Main Street, Watsonville, CA 95076.
Unincorporated Areas of Santa Cruz County
Maps are available for inspection at the Santa Cruz County Planning Department, 701 Ocean Street, 4th Floor, Santa Cruz, CA 95060.
Calvert County, Maryland, and Incorporated Areas
Hall Creek | Approximately 1.2 miles downstream of Southern Maryland Boulevard | +8 | +7 | Unincorporated Areas of Calvert County.
| Approximately 285 feet upstream of Chesapeake Beach Road | +72 | +67
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Calvert County
Maps are available for inspection at the Calvert County Services Plaza, 150 Main Street, Prince Frederick, MD 20678.
Bolivar County, Mississippi, and Incorporated Areas
Jones Bayou | Approximately 0.5 mile downstream of Tower Road | +135 | +138 | City of Cleveland, Unincorporated Areas of Bolivar County.
| Approximately 1,146 feet upstream of West Rosemary Road | +137 | +139
Mississippi River | Approximately 5.5 miles upstream of the Arkansas River confluence | None | +161 | City of Rosedale.
| Approximately 8.1 miles upstream of the Arkansas River confluence | None | +162
Porter Bayou | Approximately 0.8 mile downstream of State Route 448 | None | +127 | City of Shaw.
| Approximately 0.7 mile downstream of State Route 448 | None | +127
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Cleveland
Maps are available for inspection at the Public Works Department, 1089 Old Highway 61 North, Cleveland, MS 38732.
City of Rosedale
Maps are available for inspection at City Hall, 304 Court Street, Rosedale, MS 38769.
City of Shaw
Maps are available for inspection at City Hall, 101 Faison Street, Shaw, MS 38773.
Unincorporated Areas of Bolivar County
Maps are available for inspection at the Bolivar County Administrator Office, 200 South Court Street, Cleveland, MS 38732.
Platte County, Missouri, and Incorporated Areas
Bear Creek | Approximately 1,110 feet downstream of Main Street | None | +781 | City of Weston, Unincorporated Areas of Platte County.
| Approximately 0.76 mile upstream of Highway 45 | None | +804
Bee Creek | Approximately 0.83 mile downstream of the Bleazard Branch confluence | None | +863 | City of Dearborn, Unincorporated Areas of Platte County.
| Approximately 0.74 mile upstream of Maple Leaf Road | None | +883
Bee Creek Tributary | At the Bee Creek confluence | +877 | +878 | City of Dearborn, Unincorporated Areas of Platte County.
| Approximately 1,325 feet upstream of Interurban Road | +878 | +889
Benner Branch | At the Bear Creek confluence | +780 | +783 | City of Weston.
| Approximately 75 feet upstream of Highway 45 | +795 | +803
Brills Creek | At the Benner Branch confluence | +782 | +791 | City of Weston, Unincorporated Areas of Platte County.
| Approximately 150 feet upstream of Highway 45 | +803 | +814
Brush Creek | At the downstream side of Northwest 76th Street | None | +792 | City of Parkville, Unincorporated Areas of Platte County.
| Approximately 1,500 feet upstream of State Highway 152 | None | +820
Burlington Creek | At the Missouri River confluence | +762 | +759 | City of Riverside, Unincorporated Areas of Platte County.
| Approximately 850 feet upstream of North Helena Avenue | +797 | +800
Burlington Creek Tributary 2 | Approximately 950 feet upstream of Northwest Platte Drive | None | +764 | City of Riverside, Unincorporated Areas of Platte County.
| Approximately 1,275 feet upstream of Northeast Platte Drive | None | +768
East Creek | At the Line Creek confluence | +764 | +768 | City of Riverside.
| Approximately 100 feet downstream of Northwest Vivion Road | +771 | +769
First Creek | At the Clay County boundary | None | +864 | Unincorporated Areas of Platte County.
| Approximately 0.82 mile downstream of Northwest 128th Street | None | +895
Grove Creek | Approximately 0.74 mile downstream of Platte Avenue | None | +815 | City of Edgerton, Unincorporated Areas of Platte County.
| Approximately 150 feet upstream of State Highway Z | None | +848
Jumping Branch | At the Line Creek confluence | +760 | +756 | City of Riverside, Village of Houston Lake.
| Approximately 200 feet upstream of I-635 | None | +819
Line Creek | At the Missouri River confluence | +760 | +756 | City of Northmoor, City of Riverside.
| Approximately 300 feet downstream of I-29 | +769 | +772
Line Creek Tributary 2 | Approximately 650 feet downstream of Northwest South Shore Drive | None | +877 | City of Lake Waukomis.
| At the downstream side of Northwest South Shore Drive | None | +937
Missouri River | Approximately 850 feet upstream of the Clay County boundary | +757 | +756 | City of Iatan, City of Parkville, City of Riverside, City of Weston, Unincorporated Areas of Platte County.
| Approximately 0.53 mile downstream of the Buchanan County boundary | +788 | +791
Platte River | At the Missouri River confluence | +770 | +769 | City of Platte City, City of Tracy, Unincorporated Areas of Platte County, Village of Farley.
| Approximately 0.48 mile upstream of I-29 | None | +782
Rush Creek | At the Missouri River confluence | +762 | +760 | City of Parkville, Unincorporated Areas of Platte County.
| Approximately 0.56 mile upstream of the Walnut Creek confluence | +764 | +771
Second Creek | Approximately 750 feet downstream of State Highway 92 | None | +822 | Unincorporated Areas of Platte County.
| Approximately 3 miles downstream of State Highway 291 | None | +881
Todd Creek | Approximately 1,600 feet downstream of Water Treatment Plant Road | None | +822 | Unincorporated Areas of Platte County.
| Approximately 1,400 feet downstream of Water Treatment Plant Road | None | +822
Walnut Creek | At the Rush Creek Confluence | +764 | +768 | City of Parkville, Unincorporated Areas of Platte County.
| Approximately 1,600 feet upstream of Northwest Eastside Drive | None | +876
Wells Branch | At the Bear Creek confluence | +780 | +781 | City of Weston, Unincorporated Areas of Platte County.
| Approximately 150 feet upstream of County Road JJ | None | +830
White Branch | At the Rush Creek confluence | None | +760 | City of Parkville.
| Approximately 0.67 mile upstream of East 6th Street | None | +855
Wildcat Branch | Approximately 950 feet upstream of the Todd Creek confluence | None | +856 | Village of Ferrelview.
| Approximately 0.46 mile upstream of I-435 | None | +945
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Dearborn
Maps are available for inspection at City Hall, 101 3rd Street, Dearborn, MO 64439.
City of Edgerton
Maps are available for inspection at City Hall, 411 Front Street, Edgerton, MO 64444.
City of Iatan
Maps are available for inspection at City Hall, 130 Main Street, Iatan, MO 64098.
City of Lake Waukomis
Maps are available for inspection at City Hall, 1147 Northwest South Shore Drive, Lake Waukomis, MO 64151.
City of Northmoor
Maps are available for inspection at City Hall, 4907 Northwest Waukomis Drive, Northmoor, MO 64151.
City of Parkville
Maps are available for inspection at City Hall, 8880 Clark Avenue, Parkville, MO 64152.
City of Platte City
Maps are available for inspection at City Hall, 400 Main Street, Platte City, MO 64079.
City of Riverside
Maps are available for inspection at City Hall, 2950 Northwest Vivion Road, Riverside, MO 64150.
City of Tracy
Maps are available for inspection at City Hall, 208 2nd Street, Tracy, MO 64079.
City of Weston
Maps are available for inspection at City Hall, 300 Main Street, Weston, MO 64098.
Unincorporated Areas of Platte County
Maps are available for inspection at the Platte County Courthouse, 415 3rd Street, Suite 115, Platte City, MO 64079.
Village of Farley
Maps are available for inspection at City Hall, 1116 River Road, Farley, MO 64028.
Village of Ferrelview
Maps are available for inspection at City Hall, 205 Northwest Heady Avenue, Ferrelview, MO 64163.
Village of Houston Lake
Maps are available for inspection at City Hall, 5417 Northwest Adrian Street, Houston Lake, MO 64151.
Colfax County, Nebraska, and Incorporated Areas
East Fork Maple Creek | Approximately 81 feet downstream of State Highway 91 | +1453 | +1454 | Unincorporated Areas of Colfax County.
| Approximately 1,651 feet upstream of County Road 14 | +1466 | +1467
Platte River | Approximately 0.73 miles upstream of County Road 18 | None | +1310 | Unincorporated Areas of Colfax County.
| Approximately 2.93 miles upstream of Wolfe Road | None | +1410
Shell Creek | Approximately 834 feet upstream of County Road D | +1331 | +1332 | Unincorporated Areas of Colfax County.
| Approximately 1.9 miles upstream of County Road 2 | +1445 | +1446
Shell Creek (Right Overbank) | Approximately 0.76 miles downstream of County Road E | +1347 | +1348 | City of Schuyler, Unincorporated Areas of Colfax County.
| Approximately 1.5 miles upstream of U.S. Route 30 | +1360 | +1361
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Schuyler
Maps are available for inspection at the City Office, 1103 B Street, Schuyler, NE 68661.
Unincorporated Areas of Colfax County
Maps are available for inspection at the County Courthouse, 411 East 11th Street, Schuyler, NE 68661.
Ottawa County, Ohio, and Incorporated Areas
Ayers Creek (backwater effects from Crane Creek) | Approximately 0.5 mile downstream of Billman Road | +596 | +597 | Unincorporated Areas of Ottawa County.
| Approximately 530 feet downstream of Private Drive | +596 | +597
Crane Creek Tributary (backwater effects from Crane Creek) | Approximately 0.4 mile downstream of Billman Road | +597 | +598 | Unincorporated Areas of Ottawa County.
| Approximately 570 feet downstream of Billman Road | +597 | +598
Indian Creek (backwater effects from Little Portage River) | Approximately 0.4 mile downstream of Portage River Road | +588 | +591 | Unincorporated Areas of Ottawa County.
| Approximately 0.6 mile downstream of Harris Salem Road | +588 | +591
Lake Erie | At the east side of Poplar Street | +581 | +577 | City of Port Clinton, Unincorporated Areas of Ottawa County, Village of Put-In-Bay.
| At the Lucas County boundary | +579 | +578
Little Portage River (backwater effects from Lake Erie) | Approximately 62 feet downstream of Muddy Creek Road | +576 | +577 | Unincorporated Areas of Ottawa County.
| Approximately 1.1 miles upstream of Muddy Creek Road | +576 | +577
Portage River | Approximately 1.3 miles downstream of Locust Street | None | +578 | Village of Oak Harbor.
| Approximately 1.2 miles downstream of Locust Street | None | +578
South Branch Turtle Creek Tributary (backwater effects from South Branch Turtle Creek) | Approximately 0.8 mile downstream of Private Drive | +596 | +597 | Unincorporated Areas of Ottawa County.
| Approximately 0.6 mile downstream of Private Drive | +596 | +597
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Port Clinton
Maps are available for inspection at 1868 East Perry Street, Port Clinton, OH 43452.
Unincorporated Areas of Ottawa County
Maps are available for inspection at 315 Madison Street, Port Clinton, OH 43452.
Village of Oak Harbor
Maps are available for inspection at 146 Church Street, Oak Harbor, OH 43449.
Village of Put-In-Bay
Maps are available for inspection at 157 Concord Avenue, Put-In-Bay, OH 43456.
Aiken County, South Carolina, and Incorporated Areas
Abrams Branch | At the Dean Creek confluence | None | +255 | Unincorporated Areas of Aiken County.
| Approximately 0.7 mile upstream of the Dean Creek confluence | None | +263
Beaverdam Branch | At the South Fork Edisto River confluence | None | +297 | Unincorporated Areas of Aiken County.
| Approximately 1.3 miles upstream of the South Fork Edisto River confluence | None | +317
Beaverdam Creek | At the Shaws Creek confluence | None | +429 | Unincorporated Areas of Aiken County.
| Approximately 1,210 feet upstream of the Shaws Creek confluence | None | +435
Boggy Gut | At the Upper Three Runs Creek confluence | None | +186 | Unincorporated Areas of Aiken County.
| Approximately 1.5 miles upstream of Boggy Gut Road | None | +218
Bradley Mill Branch | At the Shaws Creek confluence | None | +327 | Unincorporated Areas of Aiken County.
| Approximately 0.8 mile upstream of Bradley Mill Road | None | +392
Bridge Creek North | At the South Fork Edisto River confluence | None | +319 | Unincorporated Areas of Aiken County.
| Approximately 0.56 mile upstream of Columbian Highway | None | +353
Brogdon Branch | At the Shaws Creek confluence | None | +351 | Unincorporated Areas of Aiken County.
| Approximately 1,550 feet upstream of the Shaws Creek confluence | None | +381
Bulls Branch | At the South Fork Edisto River confluence | None | +374 | Unincorporated Areas of Aiken County.
| Approximately 0.4 mile upstream of the South Fork Edisto River confluence | None | +379
Burcalo Creek | At the South Fork Edisto River confluence | None | +252 | Unincorporated Areas of Aiken County.
| Approximately 1.0 mile upstream of the South Fork Edisto River confluence | None | +264
Cedar Creek | At the South Fork Edisto River confluence | None | +263 | Unincorporated Areas of Aiken County.
| Approximately 1.1 miles upstream of Upper Pond Road | None | +296
Cedar Creek West | At the Upper Three Runs Creek confluence | None | +202 | City of New Ellenton, Unincorporated Areas of Aiken County.
| Approximately 0.7 mile upstream of Oak Meadow Lane | None | +408
Cedar Creek West Tributary 1 | At the Cedar Creek West confluence | None | +229 | Unincorporated Areas of Aiken County.
| Approximately 0.5 mile upstream of the Cedar Creek West confluence | None | +261
Cedar Creek West Tributary 2 | At the Cedar Creek West confluence | None | +234 | City of New Ellenton, Unincorporated Areas of Aiken County.
| Approximately 670 feet upstream of Paddock Club Parkway | None | +311
Cedar Creek West Tributary 3 | At the Cedar Creek West confluence | None | +243 | City of New Ellenton, Unincorporated Areas of Aiken County.
| Approximately 0.5 mile upstream of Gamboa Place | None | +349
Cedar Creek West Tributary 3.2 | At the Cedar Creek West Tributary 3 confluence | None | +288 | City of New Ellenton, Unincorporated Areas of Aiken County.
| Approximately 0.38 mile upstream of Club Drive | None | +330
Cedar Creek West Tributary 4 | At the Cedar Creek West confluence | None | +256 | Unincorporated Areas of Aiken County.
| Approximately 950 feet upstream of Belle Mead Road | None | +292
Cedar Creek West Tributary 5 | At the Cedar Creek West confluence | None | +266 | Unincorporated Areas of Aiken County.
| Approximately 1,540 feet upstream of the Cedar Creek West confluence | None | +308
Cedar Creek West Tributary 6 | At the Cedar Creek West confluence | None | +273 | Unincorporated Areas of Aiken County.
| Approximately 0.4 mile upstream of Talatha Church Road | None | +309
Cedar Creek West Tributary 7 | At the Cedar Creek West confluence | None | +314 | Unincorporated Areas of Aiken County.
| Approximately 350 feet upstream of Pintail Drive | None | +352
Chavous Creek | At the Shaws Creek confluence | None | +277 | Unincorporated Areas of Aiken County.
| Approximately 0.80 mile upstream of Mill Springs Drive | None | +312
Chinquapin Creek | At the North Fork Edisto River confluence | None | +336 | Unincorporated Areas of Aiken County.
| Approximately 600 feet upstream of Cocklebur Road | None | +520
Clearwater Branch | At the Shaws Creek confluence | None | +300 | Unincorporated Areas of Aiken County.
| Approximately 1,940 feet upstream of the Shaws Creek confluence | None | +305
Dairy Branch Tributary 1 | At the Dairy Branch confluence | None | +352 | Unincorporated Areas of Aiken County.
| Approximately 1,240 feet upstream of the Dairy Branch confluence | None | +364
Dean Creek | Approximately 1.4 miles downstream of No Bridge Road | None | +233 | Unincorporated Areas of Aiken County.
| Approximately 0.9 mile upstream of Wagener Trail Road | None | +335
Dry Branch | At the Hollow Creek West confluence | None | +217 | Unincorporated Areas of Aiken County.
| Approximately 1,200 feet upstream of Dry Branch Road | None | +318
Dry Branch Tributary 1 | At the Dry Branch confluence | None | +251 | Unincorporated Areas of Aiken County.
| Approximately 400 feet upstream of Gray Mare Hollow Road | None | +272
Dry Branch Tributary 2 | At the Dry Branch confluence | None | +286 | Unincorporated Areas of Aiken County.
| Approximately 1,870 feet upstream of the Dry Branch confluence | None | +307
Dry Branch Tributary 3 | At the Dry Branch confluence | None | +307 | Unincorporated Areas of Aiken County.
| Approximately 1,100 feet upstream of Ann Drive | None | +342
Franklin Branch | At the Little Horse Creek confluence | None | +200 | Unincorporated Areas of Aiken County.
| Approximately 1.7 miles upstream of the Little Horse Creek confluence | None | +236
Gopher Branch | At the Horse Creek confluence | None | +356 | Unincorporated Areas of Aiken County.
| Approximately 680 feet upstream of the Horse Creek confluence | None | +361
Gully Creek | At the McTier Creek confluence | None | +338 | Unincorporated Areas of Aiken County.
| Approximately 1,320 feet upstream of Uncle Duck Road | None | +410
Hall Branch | At the Shaws Creek confluence | None | +426 | Unincorporated Areas of Aiken County.
| Approximately 950 feet upstream of the Shaws Creek confluence | None | +426
Hightower Creek | Approximately 170 feet upstream of the Little Horse Creek confluence | None | +222 | Unincorporated Areas of Aiken County.
| Approximately 1,480 feet upstream of the Little Horse Creek confluence | None | +234
Hollow Creek East | At the North Fork Edisto River confluence | None | +241 | Unincorporated Areas of Aiken County.
| Approximately 0.4 mile upstream of Brim Road | None | +284
Hollow Creek West | At the upstream side of Woodfield Road | None | +202 | City of Aiken, Unincorporated Areas of Aiken County.
| Approximately 1,000 feet upstream of Woodside Plantation Drive | None | +364
Hollow Creek West Tributary 10 | At the Hollow Creek West confluence | None | +269 | Unincorporated Areas of Aiken County.
| Approximately 0.5 mile upstream of Anderson Pond Road | None | +321
Hollow Creek West Tributary 11 | At the Hollow Creek West confluence | None | +274 | City of Aiken, Unincorporated Areas of Aiken County.
| Approximately 200 feet upstream of Private Dam | None | +360
Hollow Creek West Tributary 12 | At the Hollow Creek West confluence | None | +270 | Unincorporated Areas of Aiken County.
| Approximately 600 feet upstream of Private Dam | None | +325
Hollow Creek West Tributary 12A | At the Hollow Creek West confluence | None | +298 | City of Aiken.
| Approximately 0.5 mile upstream of Private Dam | None | +329
Hollow Creek West Tributary 13 | At the Hollow Creek West confluence | None | +272 | Unincorporated Areas of Aiken County.
| Approximately 1,850 feet upstream of the Hollow Creek confluence | None | +309
Hollow Creek West Tributary 15 | At the Hollow Creek West confluence | None | +282 | City of Aiken, Unincorporated Areas of Aiken County.
| Approximately 1,850 feet upstream of Private Dam | None | +334
Hollow Creek West Tributary 3 | Approximately 580 feet upstream of the Hollow Creek West confluence | None | +174 | Unincorporated Areas of Aiken County.
| Approximately 270 feet upstream of Chavous Road | None | +204
Hollow Creek West Tributary 4 | Approximately 250 feet upstream of the Hollow Creek West confluence | None | +192 | Unincorporated Areas of Aiken County.
| Approximately 870 feet upstream of Woodfield Road | None | +203
Hollow Creek West Tributary 6 | At the Hollow Creek West confluence | None | +230 | Unincorporated Areas of Aiken County.
| Approximately 975 feet upstream of the Hollow Creek West confluence | None | +253
Hollow Creek West Tributary 7 | At the Hollow Creek West confluence | None | +240 | Unincorporated Areas of Aiken County.
| Approximately 1,260 feet upstream of the Hollow Creek West confluence | None | +274
Hollow Creek West Tributary 8 | At the Hollow Creek West confluence | None | +250 | Unincorporated Areas of Aiken County.
| Approximately 1,845 feet upstream of the Hollow Creek West confluence | None | +265
Hollow Creek West Tributary 9 | At the Hollow Creek West confluence | None | +253 | Unincorporated Areas of Aiken County.
| Approximately 1,410 feet upstream of the Hollow Creek West confluence | None | +293
Horse Branch | At the Horse Creek confluence | None | +313 | Unincorporated Areas of Aiken County.
| Approximately 1,330 feet upstream of the Horse Creek confluence | None | +314
Horse Creek | At the upstream side of Augusta Road | None | +145 | City of North Augusta, Town of Burnettown, Unincorporated Areas of Aiken County.
| Approximately 2.56 miles upstream of Old Friar Road | None | +440
Horse Creek Tributary 3 | At the Horse Creek confluence | None | +182 | Town of Burnettown.
| Approximately 0.5 mile upstream of the Horse Creek confluence | None | +201
Horse Creek Tributary 4 | At the Horse Creek confluence | None | +187 | Unincorporated Areas of Aiken County.
| Approximately 0.6 mile upstream of Jefferson Davis Highway | None | +252
Horse Creek Tributary 5 | At the Horse Creek confluence | None | +230 | Unincorporated Areas of Aiken County.
| Approximately 1,944 feet upstream of the Horse Creek confluence | None | +238
Horsepen Creek | At the Little Horse Creek confluence | None | +279 | Unincorporated Areas of Aiken County.
| Approximately 0.5 mile upstream of Whaley Pond Road | None | +307
Hunter Branch | At the South Fork Edisto River confluence | None | +235 | Unincorporated Areas of Aiken County.
| Approximately 0.9 mile upstream of the South Fork Edisto River confluence | None | +242
Johnson Fork | At the Upper Three Runs Creek confluence | None | +180 | Unincorporated Areas of Aiken County.
| Approximately 0.6 mile upstream of the Johnson Fork Tributary 1 confluence | None | +313
Johnson Fork Tributary 1 | At the Johnson Fork confluence | None | +283 | City of New Ellenton, Unincorporated Areas of Aiken County.
| Approximately 1,600 feet upstream of Forest Circle Road | None | +408
Johnson Fork Tributary 1.1 | At the Johnson Fork Tributary 1 confluence | None | +285 | City of New Ellenton, Unincorporated Areas of Aiken County.
| Approximately 0.8 mile upstream of the Johnson Fork Tributary 1 confluence | None | +323
Jordan Creek | At the Dean Creek confluence | None | +261 | Unincorporated Areas of Aiken County.
| Approximately 0.5 mile upstream of the Dean Creek confluence | None | +267
Joyce Branch | At the Shaws Creek confluence | None | +302 | Unincorporated Areas of Aiken County.
| Approximately 0.5 mile upstream of the Shaws Creek confluence | None | +307
Little Horse Creek Tributary 1 | Approximately 330 feet upstream of the Little Horse Creek confluence | None | +153 | Town of Burnettown.
| Approximately 1,800 feet upstream of the Little Horse Creek confluence | None | +158
Little Horse Creek Tributary 4 | Approximately 350 feet upstream of the Little Horse Creek confluence | None | +274 | Unincorporated Areas of Aiken County.
| Approximately 1,420 feet upstream of the Little Horse Creek confluence | None | +302
Long Branch North | At the Shaws Creek confluence | None | +344 | Unincorporated Areas of Aiken County.
| Approximately 0.5 mile upstream of the Shaws Creek confluence | None | +358
Lotts Creek | At the South Fork Edisto River confluence | None | +289 | Unincorporated Areas of Aiken County.
| Approximately 0.5 mile upstream of Whispering Pine Road | None | +424
Lotts Creek Tributary 1 | At the Lotts Creek confluence | None | +415 | Unincorporated Areas of Aiken County.
| Approximately 1,110 feet upstream of the Lotts Creek confluence | None | +418
Marrow Bone Swamp Creek | At the North Fork Edisto River confluence | None | +296 | Unincorporated Areas of Aiken County.
| Approximately 0.4 mile upstream of the North Fork Edisto River confluence | None | +300
McTier Creek | At the South Fork Edisto River confluence | None | +310 | Unincorporated Areas of Aiken County.
| Approximately 150 feet upstream of Old Shoals Road | None | +418
Mill Creek | At the Tinker Creek confluence | None | +166 | Unincorporated Areas of Aiken County.
| Approximately 1,880 feet upstream of the Tinker Creek confluence | None | +170
Mims Branch | Approximately 400 feet upstream of the Little Horse Creek confluence | None | +162 | City of North Augusta, Town of Burnettown, Unincorporated Areas of Aiken County.
| Approximately 0.66 mile upstream of the Little Horse Creek confluence | None | +197
Muddy Branch | At the South Fork Edisto River confluence | None | +296 | Unincorporated Areas of Aiken County.
| Approximately 0.4 mile upstream of the South Fork Edisto River confluence | None | +303
North Fork Edisto River | Approximately 1.0 mile downstream of the Hollow Creek East confluence | None | +235 | Unincorporated Areas of Aiken County.
| Approximately 400 feet upstream of U.S. Route 10 | None | +336
Pitman Branch | At the Rocky Springs Creek confluence | None | +341 | Unincorporated Areas of Aiken County.
| Approximately 1,020 feet upstream of the Rocky Springs Creek confluence | None | +343
Pond Branch | At the South Fork Edisto River confluence | None | +228 | Unincorporated Areas of Aiken County.
| Approximately 0.4 mile upstream of Oak Ridge Club Road | None | +235
Redds Branch | At the Shaws Creek confluence | None | +300 | Unincorporated Areas of Aiken County.
| Approximately 1,820 feet upstream of the Shaws Creek confluence | None | +307
Reedy Branch | At the Tinker Creek confluence | None | +172 | Unincorporated Areas of Aiken County.
| Approximately 0.4 mile upstream of the Tinker Creek confluence | None | +177
Rocky Springs Creek | At the South Fork Edisto River confluence | None | +289 | Unincorporated Areas of Aiken County.
| Approximately 1,400 feet upstream of Migrant Camp Road | None | +373
Rocky Springs Creek Tributary 5 | At the Rocky Springs Creek confluence | None | +361 | Unincorporated Areas of Aiken County.
| Approximately 0.4 mile upstream of the Rocky Springs Creek confluence | None | +363
Sand River | At the Horse Creek confluence | None | +190 | City of Aiken, Unincorporated Areas of Aiken County.
| At the downstream side of South Boundary Avenue Southwest | None | +433
Sand River Tributary 2, Tributary 1 | At the Sand River Tributary 2 confluence | None | +288 | City of Aiken, Unincorporated Areas of Aiken County.
| Approximately 1.1 miles upstream of Sand River Tributary 2 | None | +436
Shaws Creek | At the South Fork Edisto River confluence | None | +261 | Unincorporated Areas of Aiken County.
| Approximately 200 feet upstream of Luke Bridge Road | None | +433
Shaws Creek Tributary 3 | At the Shaws Creek confluence | None | +287 | Unincorporated Areas of Aiken County.
| Approximately 0.5 mile upstream of the Shaws Creek confluence | None | +310
South Fork Edisto River | Approximately 2.1 miles downstream of the Pond Branch confluence | None | +222 | Unincorporated Areas of Aiken County.
| Approximately 0.8 mile upstream of Mount Calvary Road | None | +405
Tinker Creek | At the Upper Three Runs Creek confluence | None | +151 | Unincorporated Areas of Aiken County.
| Approximately 5.5 miles upstream of the Reedy Branch confluence | None | +211
Town Creek | Approximately 1.1 miles upstream of Richardson's Lake Road | None | +391 | City of Aiken, Unincorporated Areas of Aiken County.
| Approximately 1.3 miles upstream of Richardson's Lake Road | None | +414
Town Creek Tributary 1 | Approximately 300 feet upstream of the Town Creek confluence | None | +178 | Unincorporated Areas of Aiken County.
| Approximately 0.55 mile upstream of the Town Creek confluence | None | +216
Town Creek Tributary 11 | Approximately 320 feet upstream of the Town Creek confluence | None | +253 | Unincorporated Areas of Aiken County.
| Approximately 950 feet upstream of the Town Creek confluence | None | +268
Town Creek Tributary 12 | Approximately 890 feet upstream of the Town Creek confluence | None | +257 | Unincorporated Areas of Aiken County.
| Approximately 0.4 mile upstream of the Town Creek confluence | None | +270
Town Creek Tributary 14 | Approximately 700 feet upstream of the Town Creek confluence | None | +280 | Unincorporated Areas of Aiken County.
| Approximately 1,580 feet upstream of the Town Creek confluence | None | +286
Town Creek Tributary 16 | Approximately 120 feet downstream of Blue Roan Court | None | +287 | Unincorporated Areas of Aiken County.
| Approximately 0.5 mile upstream of Blue Roan Court | None | +367
Town Creek Tributary 18 | At the upstream side of Chestnut Brown Court | None | +288 | Unincorporated Areas of Aiken County.
| Approximately 0.53 mile upstream of Blue Roan Court | None | +314
Town Creek Tributary 2.1 | Approximately 100 feet upstream of the Town Creek Tributary 2 confluence | None | +239 | Unincorporated Areas of Aiken County.
| Approximately 1,630 feet upstream of the Town Creek Tributary 2 confluence | None | +298
Town Creek Tributary 3.1 | Approximately 160 feet upstream of the Town Creek Tributary 3 confluence | None | +260 | Unincorporated Areas of Aiken County.
| Approximately 1,270 feet upstream of the Town Creek Tributary 3 confluence | None | +282
Town Creek Tributary 3.3 | Approximately 200 feet upstream of the Town Creek Tributary 3 confluence | None | +290 | Unincorporated Areas of Aiken County.
| Approximately 1,540 feet upstream of the Town Creek Tributary 3 confluence | None | +325
Town Creek Tributary 3.4 | Approximately 540 feet upstream of the Town Creek Tributary 3 confluence | None | +325 | Unincorporated Areas of Aiken County.
| Approximately 0.6 mile upstream of the Town Creek Tributary 3 confluence | None | +376
Town Creek Tributary 5.1 | Approximately 200 feet upstream of the Town Creek confluence | None | +237 | Unincorporated Areas of Aiken County.
| Approximately 550 feet upstream of Boyd Pond Road | None | +252
Unknown Tributary to Town Creek Tributary 8 | Approximately 400 feet upstream of the Town Creek Tributary 8 confluence | None | +348 | Unincorporated Areas of Aiken County.
| Approximately 1,820 feet upstream of the Town Creek Tributary 8 confluence | None | +361
Unnamed Tributary 1 to Cedar Creek West | At the Cedar Creek West confluence | None | +249 | Unincorporated Areas of Aiken County.
| Approximately 0.5 mile upstream of Cedar Meadows Drive | None | +282
Unnamed Tributary 1 to Hollow Creek West | At the Hollow Creek West confluence | None | +160 | Unincorporated Areas of Aiken County.
| Approximately 270 feet upstream of Chavous Road | None | +208
Unnamed Tributary 1 to Little Horse Creek | Approximately 400 feet upstream of the Little Horse Creek confluence | None | +274 | Unincorporated Areas of Aiken County.
| Approximately 1,900 feet upstream of the Little Horse Creek confluence | None | +310
Unnamed Tributary 1 to Town Creek | Approximately 500 feet upstream of the Town Creek confluence | None | +179 | Unincorporated Areas of Aiken County.
| Approximately 1,620 feet upstream of the Town Creek confluence | None | +194
Unnamed Tributary 10 to Town Creek | At the Town Creek confluence | None | +360 | Unincorporated Areas of Aiken County.
| Approximately 1,300 feet upstream of the Town Creek confluence | None | +396
Unnamed Tributary 2 to Cedar Creek West | At the Cedar Creek West confluence | None | +264 | Unincorporated Areas of Aiken County.
| Approximately 1,250 feet upstream of Banks Mill Road Southeast | None | +316
Unnamed Tributary 2 to Hollow Creek West | At the Hollow Creek West confluence | None | +162 | Unincorporated Areas of Aiken County.
| Approximately 0.4 mile upstream of the Hollow Creek West confluence | None | +195
Unnamed Tributary 2 to Town Creek | Approximately 250 feet upstream of the Town Creek confluence | None | +182 | Unincorporated Areas of Aiken County.
| Approximately 0.4 mile upstream of the Town Creek confluence | None | +246
Unnamed Tributary 3 to Town Creek | Approximately 400 feet upstream of the Town Creek confluence | None | +183 | Unincorporated Areas of Aiken County.
| Approximately 1,615 feet upstream of the Town Creek confluence | None | +244
Unnamed Tributary 4 to Town Creek | Approximately 310 feet upstream of the Town Creek confluence | None | +236 | Unincorporated Areas of Aiken County.
| Approximately 0.4 mile upstream of the Town Creek confluence | None | +297
Unnamed Tributary 5 to Town Creek | Approximately 350 feet upstream of the Town Creek confluence | None | +251 | Unincorporated Areas of Aiken County.
| Approximately 1,500 feet upstream of the Town Creek confluence | None | +284
Unnamed Tributary 6 to Town Creek | At the upstream side of Farmstead Drive | None | +301 | Unincorporated Areas of Aiken County.
| Approximately 900 feet upstream of Farmstead Drive | None | +332
Unnamed Tributary 7 to Town Creek | Approximately 100 feet upstream of Farmstead Drive | None | +292 | Unincorporated Areas of Aiken County.
| Approximately 900 feet upstream of Farmstead Drive | None | +320
Unnamed Tributary 8 to Town Creek | Approximately 560 feet upstream of the Town Creek confluence | None | +295 | Unincorporated Areas of Aiken County.
| Approximately 1,150 feet upstream of the Town Creek confluence | None | +325
Unnamed Tributary 9 to Town Creek | Approximately 560 feet upstream of the Town Creek confluence | None | +301 | Unincorporated Areas of Aiken County.
| Approximately 1,840 feet upstream of the Town Creek confluence | None | +342
Upper Horse Creek | Approximately 360 feet upstream of the Little Horse Creek confluence | None | +325 | Unincorporated Areas of Aiken County.
| Approximately 1,525 feet upstream of the Little Horse Creek confluence | None | +344
Upper Three Runs Creek | Approximately 1.4 miles downstream of the Upper Three Runs Creek Tributary 9 confluence | None | +144 | Unincorporated Areas of Aiken County.
| Approximately 3.0 miles upstream of the Upper Three Runs Creek Tributary 8 confluence | None | +252
Upper Three Runs Creek Tributary 8 | At the Upper Three Runs Creek confluence | None | +219 | Unincorporated Areas of Aiken County.
| Approximately 1,650 feet upstream of the Upper Three Runs Creek confluence | None | +233
Upper Three Runs Creek Tributary 9 | At the Upper Three Runs Creek confluence | None | +151 | Unincorporated Areas of Aiken County.
| Approximately 0.5 mile upstream of the Upper Three Runs Creek confluence | None | +159
Wise Hollow | At the Cedar Creek West confluence | None | +333 | Unincorporated Areas of Aiken County.
| Approximately 1,100 feet upstream of Private Drive | None | +450
Wise Hollow Tributary 1 | At the Wise Hollow confluence | None | +393 | City of Aiken, Unincorporated Areas of Aiken County.
| Approximately 200 feet upstream of Pine Log Road | None | +474
Womrath Creek | Approximately 950 feet downstream of Hamburg Road | None | +135 | City of North Augusta, Unincorporated Areas of Aiken County.
| Approximately 100 feet upstream of Old Aiken Road | None | +208
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Aiken
Maps are available for inspection at 214 Park Avenue Southwest, Room 101, Aiken, SC 29801.
City of Jackson
Maps are available for inspection at 106 Main Street, Jackson, SC 29831.
City of New Ellenton
Maps are available for inspection at 200 Main Street, New Ellenton, SC 29809.
City of North Augusta
Maps are available for inspection at 100 Georgia Avenue, North Augusta, SC 29841.
Town of Burnettown
Maps are available for inspection at 3144 Augusta Road, Warrenville, SC 29851.
Unincorporated Areas of Aiken County
Maps are available for inspection at 1680 Richland Avenue, Suite 130, Aiken, SC 29801.

(Catalog of Federal Domestic Assistance No. 97.022, “Flood Insurance.”)

Dated February 7, 2011.
Sandra K. Knight,
Deputy Federal Insurance and Mitigation Administrator, Mitigation, Department of Homeland Security, Federal Emergency Management Agency.

[FR Doc. 2011-3505 Filed 2-15-11; 8:45 am]

BILLING CODE 9110-12-P